DEPARTMENT OF THE TREASURY

Internal Revenue Service

Members of Senior Executive Service Performance Review Boards

AGENCY: Internal Revenue Service (IRS), Department of the Treasury (Treasury).

ACTION: Notice.

SUMMARY: The purpose of this notice is to publish the names of those IRS employees who will serve as members on IRS's Fiscal Year 2017 Senior Executive Service (SES) Performance Review Boards.

DATES: This notice is effective September 1, 2017.

FOR FURTHER INFORMATION CONTACT: Cheryl Huffman, IRS, 250 Murall Drive, Kearneysville, WV 25430, (304) 579-6987.

SUPPLEMENTARY INFORMATION: Pursuant to 5 U.S.C. 4314(c)(4), this notice announces the appointment of members to the IRS's SES Performance Review Boards. The names and titles of the executives serving on the boards are as follows:

Kirsten B. Wielobob, Deputy Commissioner for Services and Enforcement

Jeffrey J. Tribiano, Deputy Commissioner for Operations Support

David P. Alito, Deputy Division Commissioner, Wage & Investment

Dretha M. Barham, Director, Operations Support, Small Business/Self-Employed

Robert J. Bedoya, Director, Submission Processing, Information Technology

Michael C. Beebe, Director, Return Integrity and Compliance Services, Wage & Investment

E. Faith Bell, Deputy IRS Human Capital Officer

Thomas A. Brandt, Chief Risk Officer

Linda J. Brown, Director Submission Processing, Wage & Investment

Phyllis Brown, Director, Collection-Headquarters, Small Business/Self-Employed

Carol A. Campbell, Director, Return Preparer Office

John V. Cardone, Director, Withholding and International Individual Compliance, Large Business & International

Robert Choi, Director, Employee Plans, Tax Exempt & Government Entities

Elia I. Christiansen, Executive Director, Office of Equity, Diversity & Inclusion

James P. Clifford, Director, Customer Account Services, Wage & Investment

Katherine M. Coffman, IRS Human Capital Officer

Amelia C. Colbert, Acting Chief of Staff

Kenneth C. Corbin, Commissioner, Wage & Investment

Brenda A. Dial, Director, Examination, Small Business/Self-Employed

Nanette M. Downing, Assistant Deputy Commissioner, Government Entities/Shared Service, Tax Exempt & Government Entities

Pamela Drenthe, Director, Examination Planning and Performance Analysis, Small Business/Self-Employed

Alain Dubois, Deputy Chief, Financial Officer

John C. Duder, Project Director, Deputy Commissioner for Services and Enforcement

Elizabeth A. Dugger, Assistant Deputy Commissioner for Operations Support

Kimberly A. Edwards, Director, Western Compliance, Large Business & International

Dennis A. Figg, Director, Program and Business Solutions, Large Business & International

Nikole C. Flax, Deputy Chief, Appeals

John D. Fort, Chief, Criminal Investigation

Karen L. Freeman, Deputy Chief Information Officer for Operations, Information Technology

Silvana G. Garza, Chief Information Officer, Information Technology

Ursula S. Gillis, Chief, Financial Officer

Linda K. Gilpin, Associate Chief Information Officer, Enterprise IT Program Management Office, Information Technology

Dietra D. Grant, Director, Customer Assistance, Relationships and Education, Wage & Investment

Darren J. Guillot, Director, Collection—Field, Small Business/Self-Employed

Valerie Gunter, Director, Media & Publications, Wage & Investment

Daniel S. Hamilton, Associate Chief Information Officer, Enterprise Services, Information Technology

Donna C. Hansberry, Chief, Appeals

Barbara Harris, Director, Northeastern Compliance Practice Area, Large Business & International

Nancy E. Hauth, Director, Examination Field, Small Business/Self-Employed

Mary R. Hernandez, Associate Chief Information Officer, Enterprise Operations, Information Technology

Benjamin D. Herndon, Director, Research, Applied, Analytics & Statistics

John E. Hinding, Director, Cross Border Activities Practice Area, Large Business & International

David W. Horton, Deputy Commissioner, Tax Exempt & Government Entities

Cecil T. Hua, Director, Infrastructure Services, Information Technology

Eric C. Hylton, Deputy Chief, Criminal Investigation

Scott E. Irick, Director, Examination Headquarters, Small Business/Self-Employed

Sharon C. James, Associate Chief Information Officer, Cybersecurity, Information Technology

Robin D. Jenkins, Director, Collection—Campus, Small Business/Self-Employed

Tracy A. Keeter, Director, Enterprise Technology Implementation, Information Technology

Andrew J. Keyso Jr., Chief of Staff

Edward T. Killen, Chief Privacy Officer, Privacy, Governmental Liaison and Disclosure

Terry Lemons, Chief, Communications & Liaison

Sunita B. Lough, Commissioner, Tax Exempt & Government Entities

William H. Maglin II, Associate Chief Financial Officer for Financial Management

Paul J. Mamo, Director, Online Services

Lee D. Martin, Director, Whistleblower's Office

Erick Martinez, Director of Field Operations—Northern Area, Criminal Investigation

Ivy S. McChesney, Director, Examination—Ogden, Small Business/Self-Employed

Kevin Q. McIver, Chief, Agency-Wide Shared Services

Tina D. Meaux, Assistant Deputy Commissioner Compliance Integration, Large Business & International

Mary E. Murphy, Commissioner, Small Business/Self-Employed

Frank A. Nolden, Director, Stakeholder, Partnerships, Education & Communication, Wage & Investment

Douglas W. O'Donnell, Commissioner, Large Business & International

Nina E. Olson, National Taxpayer Advocate

Kaschit D. Pandya, Deputy Associate Chief Information Officer, Enterprise Operations, Information Technology

Holly O. Paz, Director, Pass Through Entities, Large Business & International

Richard A. Peterson, Senior Advisor/Technology Advisor, Deputy Commissioner for Services and Enforcement

Mary S. Powers, Director, Operations Support, Wage & Investment

Scott B. Prentky, Director, Collection, Small Business/Self-Employed

Robert A. Ragano, Deputy, Associate Chief Information Officer for Applications Development, Information Technology

Tamera L. Ripperda, Deputy Commissioner, Small Business/Self-Employed

Kathy J. Robbins, Director, Enterprise Activities, Large Business & International

Richard L. Rodriguez, Director, Facilities Management and Security Services, Agency-Wide Shared Services

Rene S. Schwartzman, Deputy Director Online Services and IRS Identity Assurance Executive

Rosemary Sereti, Deputy Commissioner, Large Business & International

Theodore D. Setzer, Assistant Deputy Commissioner International, Large Business & International

Verline A. Shepherd, Associate Chief Information Officer for User and Network Services, Information Technology

Nancy A. Sieger, Associate Chief Information Officer for Applications Development, Information Technology

Susan Simon, Director, Field Assistance, Wage & Investment

Harrison Smith, Deputy Chief Procurement Officer

Tommy A. Smith, Associate Chief Information Officer, Strategy and Planning, Information Technology

Marla L. Somerville, Deputy Chief Information Officer for Strategy and Modernization, Information Technology

Carolyn A. Tavenner, Director, Affordable Care Act

Kathryn D. Vaughan, Director, Examination—Campus, Small Business/Self-Employed

Margaret Von Lienen, Director, Exempt Organizations, Tax Exempt & Government Entities

Shanna R. Webbers, Chief Procurement Officer

Stephen A. Whitlock, Director, Office of Professional Responsibility

Lavena B. Williams, Director, Eastern Compliance, Large Business & International

Johnny E. Witt, Deputy Director, Affordable Care Act

This document does not meet the Treasury's criteria for significant regulations.

Jeffrey J. Tribiano,
Deputy Commissioner for Operations Support, Internal Revenue Service.

[FR Doc. 2017-18840 Filed 9-5-17; 8:45 am]

BILLING CODE 4830-01-P